NATIONAL CREDIT UNION ADMINISTRATION

Sunshine Act Meetings

TIME AND DATE: 10:00 a.m., Thursday, January 27, 2022.

PLACE: Due to the COVID-19 Pandemic, the meeting will be open to the public via live webcast only. Visit the agency's homepage (www.ncua.gov) and access the provided webcast link.

STATUS: This meeting will be open to the public.

MATTERS TO BE CONSIDERED:

1. Board Briefing, Statutory Inflation Adjustment of Civil Monetary Penalties.

2. NCUA Rules and Regulations, Succession Planning.

3. Board Briefing, 2022 Supervisory Priorities.

4. Board Briefing, Central Liquidity Facility, Expiration of CARES and Consolidated Appropriations Acts Impact.

CONTACT PERSON FOR MORE INFORMATION: Melane Conyers-Ausbrooks, Secretary of the Board, Telephone: 703-518-6304.

Melane Conyers-Ausbrooks,
Secretary of the Board.

[FR Doc. 2022-01468 Filed 1-21-22; 11:15 am]

BILLING CODE 7535-01-P